DEPARTMENT OF VETERANS AFFAIRS

[OMB Control No. 2900-0519]

Proposed Information Collection (VA Locality Pay for Nurses and Other Health Care Personnel, VA Form 10-0132) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revised collection, and allow 60 days for public comment in response to the notice. This notice solicits comments on information needed to obtain an accurate and comprehensive assessment of satisfaction of patients who receive mental health care services and on outcomes for Veterans who seek mental health treatment from VHA. Data will allow the program office to ensure that the target audience is being reached, effective treatments are being offered, and tangible, quantitative results are being measured and tracked for continual program improvement.

DATES: Written comments and recommendations on the proposed collection of information should be received on or before December 15, 2014.

ADDRESSES: Submit written comments on the collection of information through the Federal Docket Management System (FDMS) at www.Regulations.gov; or to Audrey Revere, Office of Regulatory and Administrative Affairs, Veterans Health Administration (10B4), Department of Veterans Affairs, 810 Vermont Avenue NW., Washington, DC 20420 or email: Audrey.revere@va.gov. Please refer to “OMB Control No. 2900-0519” in any correspondence. During the comment period, comments may be viewed online through FDMS.

FOR FURTHER INFORMATION CONTACT: Audrey Revere at (202) 461-5694.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Locality Pay for Nurses and Other Health Care Professionals, VA Form 10-0132.

OMB Control Number: 2900-0519.

Type of Review: Revision.

Abstract: The collection of this information is necessary to comply with the provisions of Public Law 101-366 (Department of Veterans Affairs (VA) Nurse Pay Act of 1990) as amended by 106-419 (Veterans Benefits and Health Care Improvement Act of 2000), which specifically provides for a locality pay system for certain health care personnel within VA. Rates of pay are established by VA medical facility Directors based on rates of compensation for corresponding positions in the local labor market. The law requires that where available, data from the Bureau of Labor Statistics or other third party industry surveys will be used in determining the beginning rates of compensation. However, VA medical facility Directors may conduct a salary survey in an attempt to collect comparable survey data in order to implement and adjust rates for registered nurses, nurse anesthetists, and other health care personnel when other data sources are not available.

Affected Public: Individuals or Households.

Estimated Total Annual Burden: 67 hours.

Estimated Average Burden per Respondent: 1.5 minutes.

Frequency of Response: Yearly.

Estimated Number of Respondents: 90.

Dated: October 7, 2014.
By direction of the Secretary.
Crystal Rennie,
Department Clearance Officer, U.S. Department of Veterans Affairs.

[FR Doc. 2014-24279 Filed 10-10-14; 8:45 am]

BILLING CODE 8320-01-P